DEPARTMENT OF HEALTH AND HUMAN SERVICES

Centers for Disease Control and Prevention

Disease, Disability, and Injury Prevention and Control Special Emphasis Panels (SEP): Research and Development Contract Attention Deficit Hyperactivity Disorder Surveillance, Contract Solicitation Number (CSN) 2006-N-08468

In accordance with Section 10(a)(2) of the Federal Advisory Committee Act (Pub. L. 92-463), the Centers for Disease Control and Prevention (CDC) announces the following meeting:

Name: Disease, Disability, and Injury Prevention and Control Special Emphasis Panel (SEP): Research and Development Contract Attention Deficit Hyperactivity Disorder Surveillance, CSN 2006-N-08468.

Time and Date: 12 p.m.-4 p.m., June 22, 2006 (Closed).

Place: Centers for Disease Control, 1600 Clifton Road NE., Building 19, Room 8123, Atlanta, GA 30333.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to “Research and Development Contract Attention Deficit Hyperactivity Disorder Surveillance,” CSN 2006-N-08468.

Contact Person for More Information: Christine Morrison, Ph.D., Scientific Review Administrator, Office of Extramural Research, CDC, 1600 Clifton Road NE., Mailstop D72, Atlanta, GA 30333, Telephone 404-639-3098.

The Director, Management Analysis and Services Office, has been delegated the authority to sign Federal Register notices pertaining to announcements of meetings and other committee management activities, for both CDC and the Agency for Toxic Substances and Disease Registry.

Dated: May 24, 2006.
Alvin Hall,
Director, Management Analysis and Services Office, Centers for Disease Control and Prevention.

[FR Doc. E6-8444 Filed 5-31-06; 8:45 am]

BILLING CODE 4163-18-P